DEPARTMENT OF TRANSPORTATION

Federal Aviation Administration

14 CFR Part 39

[Docket No. FAA-2005-22036; Directorate Identifier 2005-NM-009-AD]

RIN 2120-AA64

Airworthiness Directives; Airbus Model A300 B2 and B4 Series Airplanes; Model A300 B4-600, B4-600R, and F4-600R Series Airplanes, and Model C4-605R Variant F Airplanes (Collectively Called A300-600 Series Airplanes); and Model A310 Series Airplanes; Equipped With General Electric CF6-80A3 or CF6-80C2 Engines

AGENCY: Federal Aviation Administration (FAA), Department of Transportation (DOT).

ACTION: Notice of proposed rulemaking (NPRM).

SUMMARY: The FAA proposes to adopt a new airworthiness directive (AD) for certain Airbus airplane models, as specified above. This proposed AD would require installing electro-pneumatic locking bar devices (TRAS lock systems) in the engine nacelles, installing a dedicated and shielded electrical circuit that is segregated from the existing thrust reverser control system, and performing related investigative/corrective actions if necessary. This proposed AD is prompted by the manufacturer's reassessment of the thrust reverser systems in the Airbus airplane models specified above, which showed that the thrust reverser could inadvertently deploy in flight under certain conditions. We are proposing this AD to prevent inadvertent deployment of thrust reversers in flight, which could result in reduced controllability of the airplane.

DATES: We must receive comments on this proposed AD by September 7, 2005.

ADDRESSES: Use one of the following addresses to submit comments on this proposed AD.

• DOT Docket Web Site: Go to http://dms.dot.gov and follow the instructions for sending your comments electronically.

• Government-Wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-22036; the directorate identifier for this docket is 2005-NM-009-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-22036; Directorate Identifier 2005-NM-009-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A300 B2 and B4 series airplanes; Model A300 B4-600, B4-600R, and F4-600R series airplanes, and Model C4-605R Variant F airplanes (collectively called A300-600 series airplanes); and Model A310 series airplanes; equipped with General Electric CF6-80A3 or CF6-80C2 engines. The DGAC advises that the manufacturer has reassessed the thrust reverser systems of those airplanes and has determined that the thrust reverser could inadvertently deploy in flight. The manufacturer has developed a new, improved design of the thrust reversers, which provides an independent system to prevent deployment of the thrust reversers in flight. Inadvertent deployment of the thrust reversers in flight could result in reduced controllability of the airplane.

Relevant Service Information

Airbus has issued the following service bulletins (SBs), which describe procedures for installing electro-pneumatic locking bar devices (TRAS lock system) and a dedicated and shielded electrical circuit that is segregated from the existing thrust reverser control system. The new electrical circuit commands the locking bar devices (TRAS locks), which would be installed in the engine nacelles. Implementation of the following SBs is intended to provide an independent system to prevent inadvertent deployment of thrust reversers during flight.

Airbus SB A310-78-2023, dated October 7, 2003 (for Model A310 series airplanes equipped with General Electric CF6-80C2 engines and not equipped with Full Authority Digital Engine Control (FADEC)), specifies previous or concurrent accomplishment of Airbus SB A310-78-2022, and describes modifying/retrofitting the electrical harness routine from each lock to the pylon interfaces of the engine/nacelle, and the existing monitoring wire; and activating the electrical system of the aircraft.

Airbus SB A310-78-2022, dated January 7, 2003 (for Airbus Model 310 series airplanes equipped with General Electric CF6-80C2 engines and not equipped with FADEC), describes modifying/retrofitting a new electrical circuit between the forward cargo compartment and the wing/pylon interfaces, a new electrical circuit in the engine pylons, and a new electrical circuit in the avionics compartment and the forward cargo compartment; and connecting the new electrical circuit. The SB indicates that Parts 1 and 2 of the SB can be accomplished independently and in any sequence, but Part 3 must be accomplished after the first two parts. Full function can be assured once Airbus SB A310-78-2023 has been accomplished.

Airbus SB A310-78-2025, dated July 23, 2004 (for Model A310 series airplanes equipped with General Electric CF6-80A3 engines), specifies previous or concurrent accomplishment of Airbus SB A310-78-2024, and references Goodrich Service Bulletin 71-065 as an additional source of service information. (After the issuance of Airbus SB A310-78-2025, dated July 23, 2004, the Goodrich Service Bulletin was reissued as Rohr Service Bulletin CF6-80A3, dated April 28, 2005.) Airbus SB A310-78-2025 also describes the following procedures:

• Modifying/retrofitting the existing monitoring wire and activating the electrical system of the aircraft.

• Modifying/retrofitting the electrical harness routine from each lock to the pylon interfaces of the engine/nacelle.

• Installing the support bracket for the electrical harness of the engine/nacelle.

• Modifying the stowed position of the hold-open rod bracket of the engine/nacelle.

• Replacing the lower end actuator gearbox with a gearbox that integrates the locking bar.

• Replacing the pneumatic tubing situated upstream from the pressure regulated shut-off valve (PRSOV) with a new PRSOV having a third line of defense (TLOD) tubing connector.

• Modifying the hold-open rod bracket of the fan cowl.

• Accomplishing the test job set-up, extended operational test of the circuit breaker monitoring system, and the test for the stow and deploy switches included in the thrust reverser functional and indicating/warning sensors test.

Airbus Service Bulletin A310-78-2024, dated October 15, 2003 (for Model A310 series airplanes equipped with CF6-80A3 engines), describes procedures for the airplane and the engine/nacelle that include the following:

• Modifying the hold-open rod bracket of the fan cowl.

• Installing the actuation system lock.

• Modifying the wiring in a certain circuit breaker panel.

Airbus Service Bulletin A300-78-6024, dated October 7, 2003 (for Model A300-600 series airplanes equipped with General Electric CF6-80C2 engines and equipped with FADEC), specifies previous or concurrent accomplishment of Airbus SB A300-78-6021, Revision 1, dated October 7, 2003, and describes procedures for the following:

• Installing an actuation system lock.

• Modifying the wiring in a certain circuit breaker panel.

• Accomplishing the test job set-up, extended operational test of the circuit breaker monitoring system, and the test for the stow and deploy switches included in the thrust reverser functional and indicating/warning sensors test.

Airbus SB A300-78-6021, Revision 1, dated October 7, 2003 (for Model A300-600 series airplanes equipped with General Electric CF6-80C2 engines and equipped with FADEC), describes procedures for the following:

• Part 1—Modifying/retrofitting a new electrical circuit between the forward cargo compartment and the wing/pylon interfaces.

• Part 2—Modifying/retrofitting a new electrical circuit in the engine pylons.

• Part 3—Modifying/retrofitting a new electrical circuit in the avionics compartment; modifying/retrofitting a new electrical circuit between the avionics compartment and the forward cargo compartment; and modifying/retrofitting a new electrical circuit.

Airbus SB A300-78-6025, dated October 7, 2003 (for Model A300-600 series airplanes equipped with General Electric CF6-80C2 engines not equipped with FADEC), specifies previous or concurrent accomplishment of Airbus SB A300-78-6022, and describes procedures for the following:

• Installing an actuation system lock.

• Modifying the wiring in a certain circuit breaker panel.

• Accomplishing the test job set-up, extended operational test of the circuit breaker monitoring system, and the test for the stow and deploy switches included in the thrust reverser functional and indicating/warning sensors test.

Airbus SB A300-78-6022, Revision 1, dated January 7, 2003 (for Model A300-600 airplanes equipped with General Electric CF6 80C2 engines and not equipped with FADEC), describes procedures for the following:

• Part 1—Modifying/retrofitting a new electrical circuit between the forward cargo-compartment and the wing/pylon interfaces.

• Part 2—Modifying/retrofitting a new electrical circuit in the engine pylons.

• Part 3—Modifying/retrofitting a new electrical circuit in the avionics compartment; modifying/retrofitting a new electrical circuit between the avionics compartment and the forward cargo compartment; and modifying/retrofitting a new electrical circuit.

Accomplishing the actions specified in the service information is intended to adequately address the unsafe condition. The DGAC mandated the above service bulletins and issued French airworthiness directive F-2004-165, dated October 13, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States. Therefore, we are proposing this AD, which would require accomplishing the actions specified in the service information described previously.

Costs of Compliance

This AD affects about 101 airplanes of U.S. registry. (The total number of airplanes in the following table totals more than 101 airplanes because most of the airplanes would be required to accomplish two of the specified service bulletins.) The following table provides the estimated costs for U.S. operators to comply with this proposed AD at an average labor rate per hour of $65.

Estimated Costs for Modifications (Listed by Applicable Service Bulletin)
Airbus service bulletin (SB) | Work hours | Parts | Cost per airplane | Number of airplanes | Cost per SB
A300-78-6021, Revision 1 | 257 | $15,185 | $31,890 | 36 | $1,148,040
A300-78-6022, Revision 1 | 289 | 18,198 | 36,983 | 34 | 1,257,422
A300-78-6024 | 4 | 150 | 410 | 36 | 14,760
A300-78-6025 | 4 | 150 | 410 | 34 | 13,940
A310-78-2024 | 4 | 18,009 | 35,884 | 27 | 968,868
A310-78-2025 | 4 | 150 | 410 | 31 | 12,710

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22036; Directorate Identifier 2005-NM-009-AD.

Comments Due Date

(a) The Federal Aviation Administration must receive comments on this AD action by September 7, 2005.

Affected ADs

(b) None.

Applicability: (c) This AD applies to Airbus series airplanes, certificated in any category, as identified in the service bulletins listed in Table 1 of this AD.

Table 1.—Applicability
Series airplane | General Electric engine model | Airbus service bulletin | Date
A300 B2 and B4; A300 B4-600, B4-600R, and F4-600R, C4-605R Variant F airplanes (collectively called A300-600 series airplanes) | CF6-80C2 | A300-78-6024 | October 7, 2003.
A300 B2 and B4; A300 B4-600, B4-600R, and F4-600R, C4-605R Variant F airplanes (collectively called A300-600) | CF6-80C2 | A300-78-6021, Revision 1 | October 7, 2003.
A300 B2 and B4; A300 B4-600, B4-600R, and F4-600R, C4-605R Variant F airplanes (collectively called A300-600) | CF6-80C2 | A300-78-6025 | October 7, 2003.
A300 B2 and B4; A300 B4-600, B4-600R, and F4-600R, C4-605R Variant F airplanes (collectively called A300-600) | CF6-80C2 | A300-78-6022, Revision 1 | January 7, 2003.
A310 | CF6-80C2 | A310-78-2023 | October 7, 2003.
A310 | CF6-80C2 | A310-78-2022 | January 7, 2003.
A310 | CF6-80A3 | A310-78-2025 | July 23, 2004.
A310 | CF6-80A3 | A310-78-2024 | October 15, 2003.

Unsafe Condition

(d) This AD was prompted by the manufacturer's reassessment of the thrust reverser systems in the Airbus airplane models specified in Table 1 of this AD, which showed that the thrust reverser could deploy in flight under certain conditions. We are issuing this AD to prevent inadvertent deployment of thrust reversers in flight, which could result in reduced controllability of the airplane.

Compliance: (e) You are responsible for having the actions required by this AD performed within the compliance times specified, unless the actions have already been done.

Installing TRAS Locks System and Accomplishing Modifications

(f) For airplanes identified in the service bulletins specified in Table 2 of this AD: Within 36 months after the effective date of this AD, install the electro-pneumatic locking bar devices (TRAS Lock Systems) in the thrust reverser system of the nacelles, in accordance with the Accomplishment Instructions of the applicable service bulletin.

Table 2.—Installing TRAS Lock Systems
Series airplane | General Electric engine model | Airbus service bulletin | Date
A300 B2 and B4; A300 B4-600, B4-600R, and F4-600R, C4-605R Variant F airplanes (collectively called A300-600 series airplanes) | CF6-80C2 | A300-78-6024 | October 7, 2003.
A300 B2 and B4; A300 B4-600, B4-600R, and F4-600R, C4-605R Variant F airplanes (collectively called A300-600) | CF6-80C2 | A300-78-6025 | October 7, 2003.
A310 | CF6-80C2 | A310-78-2023 | October 7, 2003.
A310 | CF6-80A3 | A310-78-2025 | July 23, 2004.

Note 1: Airbus SB A310-78-2025, dated July 23, 2004, references draft Goodrich Service Bulletin 71-065 as an additional source of service information. After the issuance of Airbus A310-78-2025, the Goodrich SB was reissued as Rohr Service Bulletin CF6-80A3, dated April 28, 2005.

(g) For airplanes identified in the service bulletins specified in Table 3 of this AD: Prior to or concurrent with the accomplishment of the applicable service bulletin specified in paragraph (f) of this AD, accomplish all the modifications and actions related to an independent third line of defense on the thrust reversers, in accordance with the Accomplishment Instructions of the applicable service bulletin specified in Table 3 of this AD.

Table 3.—Prior or Concurrent Accomplishment
Series airplane | General Electric engine model | Airbus service bulletin | Date
A300 B2 and B4; A300 B4-600, B4-600R, and F4-600R, C4-605R Variant F airplanes (collectively called A300-600) | CF6-80C2 | A300-78-6021, Revision 1 | October 7, 2003.
A300 B2 and B4; A300 B4-600, B4-600R, and F4-600R, C4-605R Variant F airplanes (collectively called A300-600) | CF6-80C2 | A300-78-6022, Revision 1 | January 7, 2003.
A310 | CF6-80C2 | A310-78-2022 | January 7, 2003.
A310 | CF6-80A3 | A310-78-2024 | October 15, 2003.

Alternative Methods of Compliance (AMOCs)

(h) The Manager, International Branch, ANM-116, Transport Airplane Directorate, FAA, has the authority to approve AMOCs for this AD, if requested in accordance with the procedures found in 14 CFR 39.19.

Related Information

(i) French airworthiness directive F-2004-165, dated October 13, 2004, also addresses the subject of this AD.

Issued in Renton, Washington, on August 2, 2005.
Kevin Mullin,
Acting Manager, Transport Airplane Directorate, Aircraft Certification Service.

[FR Doc. 05-15594 Filed 8-5-05; 8:45 am]

BILLING CODE 4910-13-P